ENVIRONMENTAL PROTECTION AGENCY

[FRL-9531-6]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 0658.11; NSPS for Pressure Sensitive Tape and Label Surface Coating; 40 CFR part 60, subparts A and RR; was approved on 05/01/2013; OMB Number 2060-0004; expires on 05/31/2016; Approved without change.

EPA ICR Number 0940.26; Ambient Air Quality Surveillance (Final Rule for PM NAAQS); 40 CFR part 58; was approved on 05/01/2013; OMB Number 2060-0084; expires on 01/31/2015; Approved without change.

EPA ICR Number 2104.05; Brownfields Programs—Revitalization Grantee Reporting (Revision); 40 CFR parts 30-31; was approved on 05/07/2013; OMB Number 2050-0192; expires on 05/31/2016; Approved with change.

EPA ICR Number 2044.05; NESHAP for Plastic Parts and Products Surface Coating; 40 CFR part 63, subparts A and PPPP; was approved on 05/07/2013; OMB Number 2060-0537; expires on 05/31/2016; Approved without change.

EPA ICR Number 0328.16; Spill Prevention, Control and Countermeasure (SPCC) Plans (Renewal); 40 CFR part 112; was approved on 05/09/2013; OMB Number 2050-0021; expires on 05/31/2016; Approved without change.

EPA ICR Number 2300.10; Greenhouse Gas Reporting Program (Renewal); 40 CFR parts 86, 89, 90, 94, 98, 600, 1033, 1039, 1042, 1045, 1048, 1051, 1054 and 1065; was approved on 05/15/2013; OMB Number 2060-0629; expires on 05/31/2016; Approved with change.

EPA ICR Number 2062.05; NESHAP for Site Remediation; 40 CFR part 63, subparts A and GGGGG; was approved on 05/28/2013; OMB Number 2060-0534; expires on 05/31/2016; Approved without change.

EPA ICR Number 1381.10; Solid Waste Disposal Facility Criteria (Renewal); 40 CFR part 258; was approved on 05/28/2013; OMB Number 2050-0122; expires on 05/31/2016; Approved without change.

Comment Filed

EPA ICR Number 2473.01; RFS2 Voluntary RIN Quality Assurance Program; in 40 CFR part 80; OMB filed comment on 05/14/2013.

EPA ICR Number 2481.01; NESHAP for Gas-Fired Melting Furnaces Located at Wool Fiberglass Manufacturing Area Sources; in 40 CFR part 63, subparts A and NN; OMB filed comment on 05/28/2013.

John Moses,
Director, Collections Strategies Division.

[FR Doc. 2013-14748 Filed 6-19-13; 8:45 am]

BILLING CODE 6560-50-P